DEPARTMENT OF THE INTERIOR

Bureau of Indian Affairs

[2231A2100DD/AAKC001030/A0A501010.999900]

Advisory Board of Exceptional Children

AGENCY: Bureau of Indian Affairs, Interior.

ACTION: Notice of meeting.

SUMMARY: The Bureau of Indian Education (BIE) is announcing that the Advisory Board for Exceptional Children will hold two-day virtual meeting. The purpose of the meeting is to meet the mandates of the Individuals with Disabilities Education Act of 2004 (IDEA) for Indian children with disabilities. Due to the COVID-19 pandemic and for the safety of all individuals, it will be necessary to conduct a virtual meeting.

DATES: The BIE Advisory Board meeting will be held Thursday, June 23, 2022 from 8:00 a.m. to 4:00 p.m., Mountain Standard Time (MDT) and Friday, June 24, 2022 from 8:00 a.m. to 4:00 p.m., Mountain Standard Time (MDT).

ADDRESSES: All Advisory Board activities and meetings will be conducted virtually. See the SUPPLEMENTARY INFORMATION section of this notice for information on how to join the meeting. Public comments can be emailed to the DFO at Jennifer.davis@bie.edu; or faxed to (602) 265-0293 Attention: Jennifer Davis, DFO; or mailed or hand delivered to the Bureau of Indian Education, Attention: Jennifer Davis, DFO, 2600 N Central Ave., 12th Floor, Suite 250, Phoenix, AZ 85004.

FOR FURTHER INFORMATION CONTACT: Jennifer Davis, Designated Federal Officer, Bureau of Indian Education, 2600 N Central Ave., 12th Floor, Suite 250, Phoenix, AZ 85004, Jennifer.davis@bie.edu, or (202) 860-7845.

SUPPLEMENTARY INFORMATION: In accordance with the Federal Advisory Committee Act, the BIE is announcing the Advisory Board will hold its next meeting online. The Advisory Board was established under the Individuals with Disabilities Act of 2004 (20 U.S.C. 1400 et seq.) to advise the Secretary of the Interior, through the Assistant Secretary-Indian Affairs, on the needs of Indian children with disabilities. All meetings, including virtual sessions, are open to the public in their entirety.

Please make requests in advance for sign language interpreter services, assistive listening devices, or other reasonable accommodations. Please contact the person listed in the section titled For Further Information Contact at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

The following agenda items will be for the June 23, 2022 and June 24, 2022 meeting. The reports are regarding special education topics from the:

• BIE Central Office

• BIE/Division of Performance and Accountability (DPA)/Special Education Program

• Special Education Updates from the Associate Deputy Director (ADD) Regions—Bureau Operated Schools, Tribally Controlled Schools, and the Navajo Region Schools

• Live Panel Discussion with Bureau funded Special Education Coordinators

• BIE Special Education Updates

• BIE Office of Sovereignty in Indian Education

• Four Public Commenting Sessions will be provided during both meeting days.

○ On Thursday, June 23, 2022 two sessions (15 minutes each) will be provided, 11:15 a.m. to 11:30 a.m. MDT and 2:30 p.m. to 2:45 p.m. MDT. Public comments can be provided via webinar or telephone conference call. Please use the online access codes as listed below.

○ On Friday, June 24, 2022 two sessions (15 minutes each) will be provided, 9:45 a.m. to 10:00 a.m. MDT and 1:00 p.m. to 1:15 p.m. MDT. Public comments can be provided via webinar or telephone conference call. Please use the online access codes as listed below.

○ Public comments can be emailed to the DFO at Jennifer.davis@bie.edu; or faxed to (602) 265-0293 Attention: Jennifer Davis, DFO; or mailed or hand delivered to the Bureau of Indian Education, Attention: Jennifer Davis, DFO, 2600 N Central Ave. 12th floor, Suite 250, Phoenix, Arizona 85004.

To Access the June 23, 2022 and Friday, June 24, 2022 meeting: You can join the meetings through any of the following means:

Join Meeting: https://www.zoomgov.com/j/1606199030?pwd=YlVJTGhqb3FyVE5mL1AyTHc1eEgrUT09. Meeting ID: 160 619 9030, Passcode: 734307.

One tap mobile:

+16692545252,,1606199030#,,,,*734307# US (San Jose)

+16692161590,,1606199030#,,,,*734307# US (San Jose)

Dial by your location: +1 669 254 5252 US (San Jose); +1 669 216 1590 US (San Jose); +1 551 285 1373 US; +1 646 828 7666 US (New York), Meeting ID: 160 619 9030, Passcode: 734307.

Find your local number: https://www.zoomgov.com/u/aqOldXBHH.

Authority: 5 U.S.C. Appendix 5; 20 U.S.C. 1400 et seq.

Bryan Newland,
Assistant Secretary—Indian Affairs.

[FR Doc. 2022-11604 Filed 5-27-22; 8:45 am]

BILLING CODE 4337-15-P